DEPARTMENT OF COMMERCE

International Trade Administration

[A-489-816]

Certain Oil Country Tubular Goods From Turkey: Rescission of Antidumping Duty Administrative Review; 2014-2015

AGENCY: Enforcement and Compliance, International Trade Administration, Department of Commerce.

SUMMARY: The Department of Commerce (the Department) is rescinding the administrative review of the antidumping duty order on certain oil country tubular goods from Turkey covering the period February 25, 2014, through August 31, 2015.

DATES: Effective date: January 14, 2016.

FOR FURTHER INFORMATION CONTACT: Yang Jin Chun, AD/CVD Operations Office I, Enforcement and Compliance, International Trade Administration, U.S. Department of Commerce, 14th Street and Constitution Avenue NW., Washington, DC 20230; telephone: (202) 482-5760.

SUPPLEMENTARY INFORMATION:

Background

On September 1, 2015, we published a notice of opportunity to request an administrative review of the antidumping duty order on certain oil country tubular goods from Turkey covering the period February 25, 2014, through August 31, 2015.¹ On November 9, 2015, in response to timely requests from the petitioners ² and in accordance with section 751(a) of the Tariff Act of 1930, as amended (the Act), and 19 CFR 351.221(c)(1)(i), we initiated an administrative review of the antidumping duty order on certain oil country tubular goods from Turkey ³ with respect to Borusan Mannesmann Boru Sanayi ve Ticaret A.Ş. and Borusan İstikbal Ticaret (collectively, Borusan),⁴ Çayirova Boru Sanayi ve Ticaret A.Ş. and Yücel Boru İthalat-İhracat ve Pazarlama A.Ş. (collectively, Yücel),⁵ Çayirova Boru San A.Ş., HG Tubulars Canada Ltd., Tosçelik Profil ve Sac Endustrisi A.Ş., Tosyali Diş Ticaret A.Ş., and Yücelboru İhracat, Ithalat.⁶ On January 6, 2016, the petitioners withdrew their review request in its entirety.⁷ No other party requested a review.

¹ See Antidumping or Countervailing Duty Order, Finding, or Suspended Investigation; Opportunity To Request Administrative Review, 80 FR 52741 (September 1, 2015).

² Maverick Tube Corporation; Energex Tube, a division of JMC Steel Group; TMK IPSCO; Vallourec Star LP; Welded Tube USA Inc.; and United States Steel Corporation (collectively the petitioners). See the petitioners' review request dated September 29, 2015, as corrected in the letter from Schagrin Associates dated January 6, 2016.

³ See Initiation of Antidumping and Countervailing Duty Administrative Reviews, 80 FR 69193 (November 9, 2015), as corrected in Initiation of Antidumping and Countervailing Duty Administrative Reviews, 80 FR 74755 (November 30, 2015) (collectively Initiation Notice).

⁴ We treated these companies as a single entity in Certain Oil Country Tubular Goods From the Republic of Turkey: Final Determination of Sales at Less Than Fair Value and Affirmative Final Determination of Critical Circumstances, in Part, 79 FR 41971, 41973 (July 18, 2014) (Final Determination). See also Initiation Notice, 80 FR at 69198, n.4 for our explanation on the initiation of review for Borusan.

⁵ We treated these companies as a single entity in the Final Determination. See Initiation Notice, 80 FR at 69198, n.5.

⁶ See Initiation Notice, 80 FR at 69197.

⁷ See the petitioners' withdrawal of the review request dated January 6, 2016.

Rescission of Administrative Review

Pursuant to 19 CFR 351.213(d)(1), the Department will rescind an administrative review, “in whole or in part, if a party that requested a review withdraws the request within 90 days of the date of publication of notice of initiation of the requested review.” The petitioners withdrew their request for review within the 90-day time limit. Because we received no other requests for review of the companies identified above and no other requests for the review of the order on certain oil country tubular goods from Turkey with respect to other companies subject to the order, we are rescinding the administrative review of the order in full, in accordance with 19 CFR 351.213(d)(1).

Assessment

The Department will instruct U.S. Customs and Border Protection (CBP) to assess antidumping duties on all appropriate entries of certain oil country tubular goods from Turkey. Antidumping duties shall be assessed at rates equal to the cash deposit of estimated antidumping duties required at the time of entry, or withdrawal from warehouse, for consumption, in accordance with 19 CFR 351.212(c)(1)(i). The Department intends to issue appropriate assessment instructions to CBP within 15 days after publication of this notice.

Notification to Importers

This notice serves as a final reminder to importers of their responsibility under 19 CFR 351.402(f)(2) to file a certificate regarding the reimbursement of antidumping duties prior to liquidation of the relevant entries during this review period. Failure to comply with this requirement may result in the Department's presumption that reimbursement of antidumping duties occurred and the subsequent assessment of doubled antidumping duties.

Notification Regarding Administrative Protective Order

This notice also serves as a reminder to parties subject to administrative protective order (APO) of their responsibility concerning the disposition of proprietary information disclosed under APO, in accordance with 19 CFR 351.305(a)(3). Timely written notification of the return or destruction of APO materials or conversion to judicial protective order is hereby requested. Failure to comply with the regulations and the terms of an APO is a sanctionable violation.

This notice is issued and published in accordance with sections 751(a)(1) and 777(i)(1) of the Act, and 19 CFR 351.213(d)(4).

Dated: January 8, 2016.
Christian Marsh,
Deputy Assistant Secretary for Antidumping and Countervailing Duty Operations.

[FR Doc. 2016-00638 Filed 1-13-16; 8:45 am]

BILLING CODE 3510-DS-P